DEPARTMENT OF HEALTH AND HUMAN SERVICES

Meeting of the Vaccine Safety Working Group

AGENCY: Department of Health and Human Services, Office of the Secretary.

ACTION: Notice.

SUMMARY: The Department of Health and Human Services (DHHS) is hereby giving notice that the National Vaccine Program Office (NVPO) will convene a meeting of NVAC's Vaccine Safety Working Group. The meeting is open to the public.

DATES: The meeting will be held on April 11, 2008, from 9 a.m. to 5 p.m.

ADDRESSES: Department of Health and Human Services; Hubert H. Humphrey Building, Room 705A; 200 Independence Avenue, SW., Washington, DC 20201.

FOR FURTHER INFORMATION CONTACT: Daniel Salmon, Vaccine Safety Specialist, National Vaccine Program Office, Department of Health and Human Services, Room 443-H Hubert H. Humphrey Building, 200 Independence Avenue, SW., Washington, DC 20201; (202) 260-1587 or daniel.salmon@hhs.gov.

SUPPLEMENTARY INFORMATION: NVPO has responsibility for coordinating and ensuring collaboration among the many Federal agencies involved in vaccine and immunization activities. The NVPO provides leadership and coordination among Federal agencies, as they work together to carry out the goals of the National Vaccine Plan. The National Vaccine Plan provides a framework, including goals, objectives, and strategies, for pursuing the prevention of infectious diseases through immunizations. NVPO periodically convenes groups to address specific issues and topics that impact vaccine and immunization.

The Vaccine Safety Working Group has been established to (1) undertake and coordinate a scientific review of the draft Immunization Safety Office (Centers for Disease Control and Prevention) research agenda, and (2) review the current vaccine safety system.

Following the advice of the Institute of Medicine in its report “Vaccine Safety Research, Data Access and Public Trust” (February 17, 2005), this meeting of the Working Group is open to the public, noting that pubic attendance is limited to space available. Individuals must provide a photo ID for entry into the Humphrey Building. Individuals who plan to attend and need special assistance, such as sign language interpretation or other reasonable accommodations, should notify the designated contact person. Members of the public will have the opportunity to provide comments at the meeting. Public comment will be limited to five minutes per speaker. Any members of the public who wish to have printed material distributed to meeting participants should submit materials to the NVPO staff person designated as the contact for additional information. All materials should be submitted to the designated point of contact no later than close of business April 9, 2008. Pre-registration is required for both public attendance and comment. Any individual who wishes to attend the meeting and/or participate in the public comment session should contact the designated staff member, Daniel Salmon, by e-mail daniel.salmon@hhs.gov or call 202-690-5566.

Dated: March 18, 2008.
Bruce Gellin,
Director, National Vaccine Program Office.

[FR Doc. E8-5892 Filed 3-21-08; 8:45 am]

BILLING CODE 4150-44-P